CORPORATION FOR NATIONAL AND COMMUNITY SERVICE

Sunshine Act Meeting

The National Civilian Community Corps Advisory Board gives notice of the following meeting:

Date and Time: Tuesday, October 18, 2016, 2:00 p.m.-3:30 p.m. (CT).

Place: Main Conference Room, AmeriCorps NCCC Southern Region Campus, 2715 Confederate Avenue, Vicksburg, MS 39180.

Call-In Information: This meeting is available to the public through the following toll-free call-in number: 888-324-9650 conference call access code number 2943297. Pete McRoberts will be the lead on the call. Any interested member of the public may call this number and listen to the meeting. Callers can expect to incur charges for calls they initiate over wireless lines, and the Corporation will not refund any incurred charges. Callers will incur no charge for calls they initiate over land-line connections to the toll-free telephone number. Replays are generally available one hour after a call ends. The toll-free phone number for the replay is 888-566-0571. The end replay date: November 17, 2016, 10:59 p.m. (CT).

Status: Open.

Matters To Be Considered

I. Meeting Convenes

II. Approval of Minutes

III. Directors Report

IV. Program Updates

V. Public Comment

Accommodations: Anyone who needs an interpreter or other accommodations should notify the Corporation's contact person by 5:00 p.m. Friday, October 7, 2016.

Contact Person for More Information: Matthew Payne, NCCC, Corporation for National and Community Service, 3rd Floor, Room 3241D, 250 E St. SW., Washington, DC 20525. Phone 202-606-6907. Fax 202-606-3465. TTY: 800-833-3722. Email address: mpayne@cns.gov.

Dated: September 28, 2016.
Jeremy Joseph,
General Counsel.

[FR Doc. 2016-23962 Filed 9-29-16; 4:15 pm]

BILLING CODE 6050-28-P